FEDERAL COMMUNICATIONS COMMISSION

47 CFR Part 27

[WT Docket No. 99-168, CS Docket No. 98-120, MM Docket No. 00-39; DA 00-1680]

Service Rules for the 746-764 and 776-794 MHz Bands

AGENCY: Federal Communications Commission.

ACTION: Final rule; correction.

SUMMARY: On July 12, 2000, the Commission published in the Federal Register a document, which responded to petitions for reconsideration seeking changes in service rules adopted previously in this proceeding regarding commercial use of the 747-762 MHz and 777-792 MHz bands. This document makes corrections to that document.

DATES: Effective September 21, 2000.

FOR FURTHER INFORMATION CONTACT: Jane Phillips, 202-416712-01.

SUPPLEMENTARY INFORMATION: The Commission, in the preamble of the Memorandum Opinion and Order, FR Doc 00-17648, published in the Federal Register of July 12, 2000 (65 FR 42879) neglected to include MM Docket No. 00-39 in the caption listing the docket numbers effected by the action. This document corrects that omission. This document also corrects 47 CFR 27.50 by including a reference to power limits for fixed stations transmitting in the 776-777 MHz band and the 792-794 MHz band.

In FR Doc 00-17648, published on July 12, 2000, make the following correction.

1. On page 42879, in the second column, in the caption identifying the relevant docket numbers, add MM Docket No. 00-39.

2. In the same document, on page 42882, in column three, (correct paragraph (b)(2) to read as follows:

§ 27.50 Power and antenna height limits.

* * * * *

(b) * * *

(2) Control stations and mobile stations transmitting in the 747-762 MHz band and the 776-794 MHz band and fixed stations transmitting in the 776-777 MHz band and the 792-794 MHz band are limited to 30 watts ERP;

* * * * *

Federal Communications Commission.
Magalie Roman Salas,
Secretary.

[FR Doc. 00-21342 Filed 9-20-00; 8:45 am]

BILLING CODE 6712-01-P